CHEMICAL SAFETY AND HAZARD INVESTIGATION BOARD

Sunshine Act Meeting

In connection with its investigation into a building fire explosion at Kaltech Industries Group, Inc., which injured 31 people, including 14 persons who were not employed by Kaltech on April 25, 2002, the United States Chemical Safety and Hazard Investigation Board announces that it will convene a Public Meeting beginning at 9:30 a.m. local time on September 30, at the Hilton New York, 1335 Avenue of Americas, New York, New York 10018.

The incident originated in space leased by Kaltech Industries Group Inc. in a mixed occupancy building in a densely populated area of the Chelsea district of New York City. Kaltech manufactures architectural quality signs and letters. Kaltech generates hazardous waste during the course of normal operations and is designated as a Large Quantity Waste Generator under the Environmental Protection Agency (EPA) Resource Conservation and Recovery Act (RCRA) of 1976. On the day of the incident Kaltech employees had just finished consolidating hazardous waste from smaller containers into two large drums. The waste was incompatible with each other and an explosion occurred. Key issues involved in this investigation concern hazard communication, hazardous waste handling and municipal oversight.

At the meeting CSB staff will present to the Board the results of their investigation into this incident, including an analysis of the incident together with a discussion of the key findings, root and contributing causes, and draft recommendations.

Recommendations are issued by a vote of the Board and address an identified safety deficiency uncovered during the investigation, and specify how to correct the situation. Safety recommendations are the primary tool used by the Board to motivate implementation of safety improvements and prevent future incidents. The CSB uses its unique independent accident investigation perspective to identify trends or issues that might otherwise be overlooked. CSB recommendations may be directed to corporations, trade associations, government entities, safety organizations, labor unions and others.

After the staff presentation, the Board will allow a time for public comment. Following the conclusion of the public comment period, the Board will consider whether to vote to approve the final report and recommendations. When a report and its recommendations are approved, this will begin CSB's process for disseminating the findings and recommendations of the report not only to the recipients of recommendations but also to other public and industry sectors. The CSB believes that this process will ultimately lead to the adoption of recommendations and the growing body of safety knowledge in the industry, which, in turn, should save future lives and property.

All staff presentations are preliminary and are intended solely to allow the Board to consider in a public forum the issues and factors involved in this case. No factual analyses, conclusions or findings should be considered final. Only after the Board has considered the staff presentation and approved the staff report will there be an approved final record of this incident.

The incident originated in space leased by Kaltech Industries Group Inc. in a mixed occupancy building in a densely populated area of the Chelsea district of New York City. Kaltech manufactures architectural quality signs and letters. Kaltech generates hazardous waste during the course of normal operations and is designated as a Large Quantity Waste Generator under the Environmental Protection Agency (EPA) Resource Conservation and Recovery Act (RCRA) of 1976. On the day of the incident Kaltech employees had just finished consolidating hazardous waste from smaller containers into two large drums. The waste was incompatible with each other and an explosion occurred. Key issues involved in this investigation concern hazard communication, hazardous waste handling and municipal oversight.

The meeting will be open to the public. Please notify CSB if a translator or interpreter is needed, at least 5 business days prior to the public meeting. For more information, please contact the Chemical Safety and Hazard Investigation Board at (202)-261-7600, or visit our Web site at: www.csb.gov.

Christopher W. Warner,
General Counsel.

[FR Doc. 03-23174 Filed 9-8-03; 12:55 pm]

BILLING CODE 6350-01-P